DEPARTMENT OF COMMERCE

National Oceanic and Atmospheric Administration

50 CFR Part 648

[Docket No. 230724-0172; RTID 0648-XD211]

Fisheries of the Northeastern United States; Mackerel, Squid, and Butterfish Fishery; Longfin Squid 2023 Trimester II Quota Harvested

AGENCY: National Marine Fisheries Service (NMFS), National Oceanic and Atmospheric Administration (NOAA), Commerce.

ACTION: Temporary rule; reduction of possession limit.

SUMMARY: NMFS is closing the directed longfin squid fishery through the remainder of 2023 Trimester II (May 1-August 31, 2023). This closure is required by regulation because NMFS projects that 90 percent of the longfin squid Trimester II quota will be caught by the effective date. This action is necessary to comply with the regulations implementing the Mackerel, Squid, and Butterfish Fishery Management Plan and is intended to prevent overharvest of longfin squid.

DATES: Effective 00:01 hours (hr) local time, August 2, 2023, through 24 hr local time on August 31, 2023.

FOR FURTHER INFORMATION CONTACT: Maria Fenton, Fishery Management Specialist, (978) 281-9196.

SUPPLEMENTARY INFORMATION: The regulations at 50 CFR part 648 require specifications for maximum sustainable yield, initial optimum yield, allowable biological catch (ABC), domestic annual harvest (DAH), domestic annual processing, joint venture processing, and total allowable levels of foreign fishing for the species managed under the Mackerel, Squid, and Butterfish Fishery Management Plan (FMP). The procedures for setting the annual initial specifications are described in § 648.22.

In 2023, the longfin squid Trimester II quota was increased by 50 percent to account for an underage in Trimester I catch. The remainder of the 2023 quota for longfin squid will become available on September 1, 2023.

When the Regional Administrator projects that 90 percent of the longfin squid Trimester II quota will be harvested before August 15, the regulations at § 648.24(a)(1) require NMFS to close the directed fishery in Federal waters for longfin squid for the remainder of the trimester. Regulations at § 648.26(b)(2)(iii) state that while such a closure is in effect, vessels are prohibited from fishing for, possessing, or landing more than 250 pounds (lb) (113.4 kilograms (kg)) of longfin squid at any time per trip, and from landing longfin squid more than once per calendar day, unless the vessel meets all the conditions described at § 648.26(b)(2)(iv). The Regional Administrator monitors longfin squid fishery catch based on dealer reports, and other available information. Regulations at § 648.24(d) require that upon determining that a closure is necessary, NMFS must: Notify the Executive Directors of the Mid-Atlantic, New England, and South Atlantic Fishery Management Councils; notify permit holders at least 72 hr before the effective date of the closure; notify recreational participants in the fishery; and publish notification of the closure in the Federal Register.

Based on dealer reports and other available information, the Regional Administrator has determined that 90 percent of the longfin squid Trimester II quota will be harvested by August 2, 2023. Therefore, except as described below, effective 00:01 hr local time on August 2, 2023, vessels may not fish for, possess, or land more than 250 lb (113.4 kg) of longfin squid at any time per trip, and may only land longfin squid once per calendar day, through 24 hr local time on August 31, 2023. Vessels that enter port before 00:01 hr local time on August 2, 2023, may land and sell more than 250 lb (113.4 kg) of longfin squid from that trip.

During Trimester 2, the regulations at § 648.26(b)(2)(iv) provide an exception to the incidental limit specified above, such that vessels issued a Tier 1 or Tier 2 longfin squid moratorium permit may possess more than 250 lb (113.4 kg) of longfin squid per trip, provided that the vessel: Declares into the directed Illex fishery via its vessel monitoring system; fishes in the Illex Squid Exemption Area (as defined in Table 1 and at § 648.23(a)(5)); possesses more than 10,000 lb (4,535.9 kg) of Illex squid on board; and possesses less than 15,000 lb (6,803.9 kg) (Tier 1 longfin squid moratorium permit) or 5,000 lb (2,268.0 kg) (Tier 2 longfin squid moratorium permit) of longfin squid on board. All fishing gear must be stowed and rendered not available for immediate use as defined in § 648.2 once such a vessel is landward of the coordinates defining the Illex Squid Exemption Area specified at § 648.23(a)(5).

Table 1—Illex Squid Exemption Area Coordinates
North latitude | West longitude
43°58.0′ | 67°22.0′
43°50.0′ | 68°35.0′
43°30.0′ | 69°40.0′
43°20.0′ | 70°00.0′
42°45.0′ | 70°10.0′
42°13.0′ | 69°55.0′
41°00.0′ | 69°00.0′
41°45.0′ | 68°15.0′
42°10.0′ | 67°10.0′
41°18.6′ | 66°24.8′
40°55.5′ | 66°38.0′
40°45.5′ | 68°00.0′
40°37.0′ | 68°00.0′
40°30.0′ | 69°00.0′
40°22.7′ | 69°00.0′
40°18.7′ | 69°40.0′
40°21.0′ | 71°03.0′
39°41.0′ | 72°32.0′
38°47.0′ | 73°11.0′
38°04.0′ | 74°06.0′
37°08.0′ | 74°46.0′
36°00.0′ | 74°52.0′
35°45.0′ | 74°53.0′
35°28.0′ | 74°52.0′

Also effective 00:01 hr local time on August 2, 2023, through 24 hr local time on August 31, 2023, federally permitted dealers may not purchase more than 250 lb (113.4 kg) of longfin squid from a federally permitted longfin squid vessel unless it is from a trip landed by a vessel that entered port before 00:01 hr local time on August 2, 2023; except that they may purchase up to 15,000 lb (6,803 kg) of longfin squid from vessels issued a Tier 1 longfin squid moratorium permit or 5,000 lb (2,268 kg) from vessels issued a Tier 2 longfin squid moratorium permit if such vessels that were on a declared Illex squid trip in the Illex Squid Exemption Area and such vessels possess more than 10,000 lb (4,536 kg) of Illex squid on board.

Classification

This action is required by 50 CFR part 648 and is exempt from review under Executive Order 12866.

NMFS finds good cause pursuant to 5 U.S.C. 553(b)(B) to waive prior notice and the opportunity for public comment because it would be contrary to the public interest and impracticable. The longfin squid Trimester II fishery opened for the 2023 fishing year on May 1, 2023. Data and other information indicating the longfin squid fleet will have landed at least 90 percent of the 2023 Trimester II quota have only recently become available. Landings data is updated on a weekly basis, and NMFS monitors catch data on a daily basis as catch increases toward the limit. Further, high-volume catch and landings in this fishery increases total catch relative to the quota quickly. The regulations at § 648.24(a)(1) require such action to ensure that longfin squid vessels do not exceed the 2023 Trimester II quota. If implementation of this action is delayed to solicit prior public comment, the quota for this Trimester II may be exceeded, thereby undermining the conservation objectives of the FMP. Additionally, if the Trimester II quota is exceeded, the excess must be deducted from a future Trimester and would reduce future fishing opportunities. Furthermore, the public had prior notice and full opportunity to comment on this process when these provisions were put in place. Based on these considerations, NMFS further finds, pursuant to 5 U.S.C 553(d)(3), good cause to waive the 30-day delayed effectiveness period for the reasons stated above.

Authority: 16 U.S.C. 1801 et seq.

Dated: July 28, 2023.
Jennifer M. Wallace,
Acting Director, Office of Sustainable Fisheries, National Marine Fisheries Service.

[FR Doc. 2023-16480 Filed 7-28-23; 4:15 pm]

BILLING CODE 3510-22-P